ENVIRONMENTAL PROTECTION AGENCY

[OPP-2004-0208; FRL-7368-2]

Fipronil; Cancellation Order for Certain Product Registrations

AGENCY: Environmental Protection Agency (EPA).

ACTION: Notice.

SUMMARY: In accordance with section 6(f)(1) of the Federal Insecticide, Fungicide, and Rodenticide Act (FIFRA), as amended, EPA is issuing cancellation orders announcing its approval of the requests submitted by Bayer CropScience to voluntarily cancel the registrations of certain pesticide products containing fipronil for use on rice or rice seed. This cancellation order is effective July 1, 2004. Any distribution, sale or use of the products subject to this cancellation order is only permitted in accordance with the terms of the existing stocks provision of this cancellation order.

FOR FURTHER INFORMATION CONTACT: Ann Sibold, Registration Division (7505C), Office of Pesticide Programs, Environmental Protection Agency, 1200 Pennsylvania Ave., NW., Washington, DC 20460-0001; telephone number: (703) 305-6502; e-mail address: sibold.ann@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this order, consult the person listed under FOR FURTHER INFORMATION CONTACT.

B. How Can I Get Copies of this Document and Other Related Information?

1. Docket. EPA has established an official public docket for this action under docket identification (ID) number OPP-2004-0208. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall# 2, 1801 Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

EPA is issuing cancellation orders approving the requests submitted by Bayer CropScience to voluntarily cancel the registrations of three pesticide products registered under section 3 of FIFRA. These registrations constitute all registrations held by Bayer Crop Science containing fipronil for use on rice or rice seed. In a letter dated April 20, 2004, Bayer CropScience requested voluntary cancellation of these product registrations. Notice of receipt of this request was published in the Federal Register on May 7, 2004 (69 FR 25577) (FRL-7358-1). One comment, submitted by the USA Rice Federation, requested an extension of the public notice period to July 1, 2004, so that they could continue discussions with Bayer CropScience to withdraw the request for voluntary cancellation. As the Icon registrations were time limited, with an expiration date of July 1, 2004, the Agency determined that an extension to the expiration date of July 1, 2004 would make the extension meaningless. In a notice published in the Federal Register on June 9, 2004 (69 FR 32345) (FRL-7363-7), the Agency agreed to extend the comment period to June 21, 2004 so that any comments could be considered before the expiration date.

After considering the comments received, EPA has decided to accept the voluntary cancellation requests. Accordingly, the Agency is issuing an Order canceling the three registrations identified in Table 1. This cancellation order is effective July 1, 2004. Any distribution, sale or use of the products subject to this cancellation order is only permitted in accordance with the terms of the existing stocks provision of this cancellation order. These registrations are listed in sequence by registration number in Table 1 of this unit:

Table 1.— Approved Registration Cancellations
Registration No. | Product name | Chemical name
264-576 | Icon 80WG | fipronil
264-577 | Icon 6.2FS | fipronil
264-580 | Icon 6.2SC | fipronil

Table 2 of this unit includes the names and addresses of record for all registrants of the products in Table 1 of this unit, in sequence by EPA company number:

Table 2.—Registrants Requesting Voluntary Cancellation
EPA Company No. | Company name and address
264 | Bayer CropScience, 2 T.W. Alexander Drive, Research Triangle Park, NC 27709

III. Cancellation Order

Pursuant to Section 6(f) of FIFRA, EPA hereby approves the requested cancellations of the fipronil product registrations identified in Table 1 of this order. Accordingly, the Agency orders that the fipronil product registrations identified in Table 1 are hereby canceled as of July 1, 2004.

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. What Comments Did the Agency Receive?

In response to the Federal Register Notice of June 9, 2004 (69 FR 32345), Bayer CropScience submitted a comment that they had sent a letter to the USA Rice Federation informing them that Bayer CropScience was not interested in selling or licensing Icon, and that the Agency should continue with cancellation of the Icon registrations. In addition, the USA Rice Federation submitted a comment dated June 21, 2004 stating that they had received a final negative response from Bayer CropScience. No other timely substantive comments were received.

VI. Provisions for Disposition of Existing Stocks

The registrant is permitted to sell or distribute existing stocks for 1 year after the date the cancellation request was received, until April 21, 2005. This policy is in accordance with the Agency's statement of policy as prescribed in the Federal Register of June 26, 1991 (56 FR 29362) (FRL-3846-4). Existing stocks are those stocks of registered pesticide products which are currently in the United States and which have been packaged, labeled, and released for shipment prior to the effective date of the cancellation order, July 1, 2004. Existing stocks already in the hands of dealers or users can be distributed, sold, or used legally until they are exhausted, provided that such further sale and use comply with the EPA-approved label and labeling of the affected product.

List of Subjects

Environmental protection, Pesticides and pests.

Dated: June 25, 2004.
Deborah McCall,
Acting Director, Registration Division, Office of Pesticide Programs.

[FR Doc. 04-15047 Filed 6-30-04; 8:45 am]

BILLING CODE 6560-50-S